DEPARTMENT OF DEFENSE

Office of the Secretary

U.S. Nuclear Command and Control System Comprehensive Review Advisory Committee

AGENCY: Department of Defense.

ACTION: Notice of meeting.

SUMMARY: Under the provisions of the Federal Advisory Committee Act of 1972 (5 U.S.C., Appendix, as amended), the Government in the Sunshine Act of 1976 (5 U.S.C. paragraph 552b, as amended), and 41 CFR paragraph 102-3.150, the Department of Defense announces the following Federal Advisory Committee meetings of the U.S. Nuclear Command and Control System Comprehensive Review Advisory Committee.

DATES: September 3, 2008 (0830-1700) and September 4, 2008 (0830-1700).

ADDRESSES: Aboard the National Airborne Command Center and at U.S. Strategic Command Headquarters Conference Room, Offutt AFB, NB.

FOR FURTHER INFORMATION CONTACT: Mr. William L. Jones, (703) 681-8681, U.S. Nuclear Command and Control System Support Staff (NSS), Skyline 3, 5201 Leesburg Pike, Suite 500, Falls Church, Virginia 22041.

SUPPLEMENTARY INFORMATION: Purposes of the Meetings: To provide an overview of Nuclear Command and Control System capabilities, NCCS capabilities, including airborne and Integrated Tactical Warning/Attack Assessment facilities, equipment and communications.

Time | Topic | Presenter
Agenda: Sep 3, 2008: Offutt AFB/HQ USSTRATCOM—Force Execution.
TBD | Depart Andrews AFB
(Airborne) | NAOC Capabilities Brief | NAOC Crew.
(Airborne) | NAOC Roadmap | Joint Staff/USAF.
(Airborne) | Nuclear Forces Connectivity | OASD (NII)/DISA.
(DC2N concept, Thin-line funding and projected capabilities)
(Airborne) | Oversight of NCCS assets (e.g., DC2N, E-4, E-6B ) | OASD (NII).
11 a.m. | Land at Offutt AFB
11:30 a.m. | Lunch | Club.
1 p.m. | Tour GOC, Air Room | STRATCOM.
2 p.m. | Briefing on OPLAN 8010 GT08 | USSTRATCOM.
3 p.m. | DOD Nuclear Exercise Results | JS/STRATCOM.
4 p.m. | Exec Session
5 p.m. | Adjourn
Sep 4, 2008: Offutt AFB/HQ USSTRATCOM—Force Execution
8 a.m. | Tour TACAMO, get capabilities brief | TACAMO Crew.
9 a.m. | NATO NC2 Capabilities & Procedures | EUCOM.
9:30 a.m. | STRATCOM Survivability Assessment/EMP | Mr. Andy Metzger.
[special compartmented briefing]
10:30 a.m. | Integrated Tactical Warning/Attack Assessment | AFSPC.
(Modernization Plans, C2 Plans, issues, capabilities gaps)
11:30 a.m. | Communication Satellite Transition Plans | Air Staff.
12 p.m. | Lunch
1:30 p.m. (abt) | Depart Offutt for Andrews AFB on NAOC
(Airborne) | Nuclear Technical Performance Criteria (NTPC) | J Staff by VTC.
(Airborne) | National Military Command System | J Staff by VTC.
(Airborne) | POLO Hat Program (results/trends) | J Staff by VTC.
(Airborne) | Executive Session
5:30 p.m. | Arrive at Andrews AFB

Pursuant to 5 U.S.C. paragraph 552b, as amended, and 41 CFR paragraph 102-3.155, the Department of Defense has determined that the meeting shall be closed to the public. The Director, U.S. Nuclear Command and Control System Support Staff, in consultation with his General Counsel, has determined in writing that the public interest requires that all sessions of the committee's meeting will be closed to the public because they will be concerned with classified information and matters covered by section 5 U.S.C. paragraph 552b(c)(1).

Pursuant to 41 CFR paragraphs 102-3.105(j) and 102-3.140, and section 10(a)(3) of the Federal Advisory Committee Act of 1972, the public or interested organizations may submit written statements at any time to the Nuclear Command and Control System Federal Advisory Committee about its mission and functions. All written statements shall be submitted to the Designated Federal Officer for the Nuclear Command and Control System Federal Advisory Committee. He will ensure that written statements are provided to the membership for their consideration. Written statements may also be submitted in response to the stated agenda of planned committee meetings. Statements submitted in response to this notice must be received by the Designated Federal Official at least five calendar days prior to the meeting which is the subject of this notice. Written statements received after that date may not be provided or considered by the Committee until its next meeting. All submissions provided before that date will be presented to the committee members before the meeting that is subject of this notice. Contact information for the Designated Federal Officer is listed below.

Committee's Designated Federal Officer: Mr. William L. Jones, (703) 681-8681, U.S. Nuclear Command and Control System Support Staff (NSS), Skyline 3, 5201 Leesburg Pike, Suite 500, Falls Church, Virginia 22041. William.jones@nss.pentagon.mil.

Dated: August 6, 2008.
Patricia L. Toppings,
OSD Federal Register Liaison Officer, Department of Defense.

[FR Doc. E8-18598 Filed 8-7-08; 4:15 pm]

BILLING CODE 5001-06-P